Proclamation 9987 of January 31, 2020

National African American History Month, 2020

By the President of the United States of America

A Proclamation

Through bravery, perseverance, faith, and resolve—often in the face of incredible prejudice and hardship—African Americans have enhanced and advanced every aspect of American life. Their fight for equality, representation, and respect motivates us to continue working for a more promising, peaceful, and hopeful future for every American. During National African American History Month, we honor the extraordinary contributions made by African Americans throughout the history of our Republic, and we renew our commitment to liberty and justice for all.

The theme of this year's observance, “African Americans and the Vote,” coincides with the 150th anniversary of the 15th Amendment, which gave African American men the right to vote. This Amendment to the Constitution, ratified in 1870, prohibits the government from denying or abridging a citizen's right to vote based on “race, color, or previous condition of servitude.” Today, this guarantee is enforced primarily throughout the Voting Rights Act of 1965, an enduring legacy of Reverend Dr. Martin Luther King, Jr., and the Civil Rights movement.

This year also marks the 150th anniversary of the first African American to serve in the Congress. In 1870, Hiram Revels, a Mississippi Republican, served a 1-year term in the Senate, where he fought for justice and racial equality. During his lifetime, Senator Revels served as a military chaplain, a minister with the African Methodist Episcopal Church, and a college administrator. But it was Revels' tenure in the Congress that truly distinguished him as a trailblazer. He made history serving our Nation in a building that had been constructed by slave laborers just a decade earlier.

My Administration has made great strides in expanding opportunity for people of all backgrounds. Over the past 2 years, the poverty and unemployment rates for African Americans have reached historic lows. Through the transformative Tax Cuts and Jobs Act, more than 8,700 distressed communities battling economic hardship have been designated Opportunity Zones, creating a path for struggling communities to unlock investment resources and create much needed jobs and community amenities. I also signed into law the historic First Step Act, which rolled back unjust provisions of the Violent Crime Control and Law Enforcement Act of 1994, which disproportionately harmed African American communities. The First Step Act provides inmates with opportunities for job training, education, and mentorship. We want every person leaving prison to have the tools they need to take advantage of a second chance to transform their lives and pursue the American dream after incarceration. Additionally, last December, I was proud to sign into law the groundbreaking FUTURE Act, which ensures full support for historically black colleges and universities over the next 10 years.

Our great Nation is strengthened and enriched by citizens of every race, religion, color, and creed. This month, we celebrate the cultural heritage, diverse contributions, and unbreakable spirit of African Americans. We commend the heroes, pioneers, and common Americans who tirelessly fought for—and firmly believed in—the promise of racial equality granted by our Creator, enshrined in our Constitution, and enacted into our laws. We pledge to continue to stand against the evils of bigotry, intolerance, and hatred so that we may continue in our pursuit of a more perfect Union.

NOW, THEREFORE, I, DONALD J. TRUMP, President of the United States of America, do hereby proclaim February 2020 as National African American History Month. I call upon public officials, educators, and all Americans to observe this month with appropriate programs, ceremonies, and activities.

IN WITNESS WHEREOF, I have hereunto set my hand this thirty-first day of January, in the year of our Lord two thousand twenty, and of the Independence of the United States of America the two hundred and forty-fourth.

[FR Doc. 2020-02429

Filed 2-4-20; 11:15 am]

Billing code 3295-F0-P